DEPARTMENT OF TRANSPORTATION

Federal Transit Administration

Section 5309 Bus and Bus Facilities Livability Initiative and Urban Circulator Program Grants

AGENCY: Federal Transit Administration (FTA), DOT.

ACTION: Notice to Extend Application Deadline for the Bus and Bus Facilities and Urban Circulator Livability Initiative Programs.

SUMMARY: The Federal Transit Administration (FTA) announced on December 8, 2009, the availability of discretionary Section 5309 Bus and Bus Facilities grant and New Starts funds in support of the Department of Transportation's Livability Initiative (“Livability Bus Program”). The Livability Bus Program is funded using $150 million in unallocated Discretionary Bus and Bus Facilities Program funds, authorized by 49 U.S.C. 5309(b) of the Safe, Accountable, Flexible, Efficient, Transportation Equity Act: A Legacy for Users (SAFETEA-LU), Public Law 109-59, August 10, 2005. The Urban Circulator Program is funded using $130 million in unallocated New Starts/Small Starts Program Funds authorized by 49 U.S.C. 5309(b) of the Safe, Accountable, Flexible, Efficient, Transportation Equity Act: A Legacy for Users (SAFETEA-LU), Public Law 109-59, August 10, 2005.

DATES: This Notice will extend the submittal date for proposals of the discretionary Bus Livability and Urban Circulator Programs to February 10, 2010.

ADDRESSES: Proposals may be submitted to FTA electronically at buslivability@dot.gov or urbancirculator@dot.gov through the GRANTS.GOV APPLY function.

FOR FURTHER INFORMATION CONTACT: Contact the appropriate FTA Regional Administrator (Appendix A) for proposal specific information and issues. For general program information on the Bus Livability Program, contact Kimberly Sledge, Office of Transit Programs, 202-366-2053, e-mail: kimberly.sledge@dot.gov or Henrika Buchanan-Smith, 202-366-4020, e-mail: henrika.buchanan-smith@dot.gov. For general information on the Urban Circulator Program contact Elizabeth Day, Office of Planning and Environment, (202) 366-5159, e-mail: Elizabeth.Day@dot.gov. A TDD is available at 1-800-877-8339 (TDD/FIRS).

Issued in Washington, DC, this 29th day of January 2010.
Peter Rogoff,
Administrator.

Appendix A

FTA Regional Offices
Richard H. Doyle, Regional Administrator, Region 1—Boston, Kendall Square, 55 Broadway, Suite 920, Cambridge, MA 02142-1093, Tel. 617-494-2055. | Robert C. Patrick, Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Brigid Hynes-Cherin, Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2—New York, One Bowling Green, Room 428, New York, NY 10004-1415, Tel. 212-668-2202.
Letitia Thompson, Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Philadelphia Metropolitan Office, Region 3—Philadelphia, 1760 Market Street, Suite 500, Philadelphia, PA 19103-4124, Tel. 215-656-7070.
Washington, DC Metropolitan Office, 1990 K Street, NW., Room 510, Washington, DC 20006, Tel. 202-219-3562.
Yvette Taylor, Regional Administrator, Region 4—Atlanta, 230 Peachtree Street, NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789.

[FR Doc. 2010-2310 Filed 2-3-10; 8:45 am]

BILLING CODE P